Title 3—

The President

Proclamation 10784 of July 15, 2024

National Atomic Veterans Day, 2024

By the President of the United States of America

A Proclamation

Our military service members and veterans live by a code of duty, putting their lives on the line to keep all of us safe. Few exemplify that creed better than Atomic Veterans. These former members of our Armed Forces not only courageously served our country but also participated in the nuclear tests done between 1945 and 1962 or were exposed to radioactive materials. Today, we honor their service, sacrifice, and dedication to our Nation and recommit to fulfilling the great debt of gratitude we owe them.

For five decades, the service members who suffered from the impact of nuclear warfare here at home were forced to remain silent. Many had been present for nuclear testing, posted nearby as atomic bombs detonated. They suffered the consequences for their entire lives, including serious health problems and cancers. For some, the mental scars of what they endured never fully went away. Forbidden from telling anyone, they could never fully disclose their past to their doctors, which delayed diagnoses, while their families struggled to get the benefits they were entitled to. Thousands of Atomic Veterans died before telling their stories.

I have often said that our Nation has many obligations, but only one is truly sacred: to prepare those we send into harm's way and care for them and their families when they return. For Atomic Veterans, that began with finally being able to share their stories. The 1996 repeal of the Nuclear Radiation and Secrecy Agreements Act allowed them to tell people what they had experienced so they could receive the benefits they deserved from the Department of Veterans Affairs. But there is still so much more to do. That is why I signed the PACT Act, one of the most significant laws ever to help millions of veterans who were exposed to toxins and other hazards, including radiation and burn pits during their military service. Further, I have signed laws that support individuals who developed cancer and other medical conditions due to their work related to the World War II nuclear program. And in 2022, the Department of Defense began recognizing Atomic Veterans' service and sacrifice through the Atomic Veterans Commemorative Service Medal.

Today, on behalf of a grateful Nation, we honor the service of our Atomic Veterans. May we not only tell the truth of their history but also build a future worthy of their highest hopes for our country—one that is peaceful and stable and where all veterans are cared for.

NOW, THEREFORE, I, JOSEPH R. BIDEN JR., President of the United States of America, by virtue of the authority vested in me by the Constitution and the laws of the United States, do hereby proclaim July 16, 2024, as National Atomic Veterans Day. I call upon all Americans to observe this day with appropriate ceremonies and activities that honor our Nation's Atomic Veterans, whose brave service and sacrifice played an important role in the defense of our Nation.

IN WITNESS WHEREOF, I have hereunto set my hand this fifteenth day of July, in the year of our Lord two thousand twenty-four, and of the Independence of the United States of America the two hundred and forty-ninth.

[FR Doc. 2024-16056

Filed 7-18-24; 8:45 am]

Billing code 3395-F4-P